NUCLEAR REGULATORY COMMISSION

[NRC-2020-0001]

Sunshine Act Meetings

TIME AND DATE: Weeks of December 14, 21, 28, 2020, January 4, 11, 18, 25, 2021.

PLACE: Commissioners' Conference Room, 11555 Rockville Pike, Rockville, Maryland.

STATUS: Public.

Week of December 14, 2020

Thursday, December 17, 2020

2:30 p.m. Affirmation Session (Public Meeting) (Tentative)

a. Interim Storage Partners, LLC (WCS Consolidated Interim Storage Facility), Appeals of LBP-19-7: Fasken Proposed New Contention Based on Draft Environmental Impact Statement (Tentative)

(Contact: Denise McGovern: 301-415-0681)

Additional Information: Due to COVID-19, there will be no physical public attendance. The public is invited to attend the Commission's meeting live via teleconference. Details for joining the teleconference in listen only mode can be found at https://www.nrc.gov/pmns/mtg.

b. Interim Storage Partners, LLC (WCS Consolidated Interim Storage Facility), Sierra Club Appeal of LBP-19-9 (Denying Motion to Amend and Granting Motion to Dismiss), LBP-19-7 (Denial of Contentions)

(Tentative)

(Contact: Denise McGovern: 301-415-0681)

Additional Information: By a vote of 5-0 on December 15, 2020, the Commission determined pursuant to 5 U.S.C. 552b(e)(1) and 10 CFR 9.107 that the above referenced Affirmation Session be held with less than one week notice to the public. The meeting will be held on December 17, 2020. Due to COVID-19, there will be no physical public attendance. The public is invited to attend the Commission's meeting live via teleconference. Details for joining the teleconference in listen only mode can be found at https://www.nrc.gov/pmns/mtg.

Week of December 21, 2020—Tentative

There are no meetings scheduled for the week of December 21, 2020.

Week of December 28, 2020—Tentative

There are no meetings scheduled for the week of December 28, 2020.

Week of January 4, 2021—Tentative

There are no meetings scheduled for the week of January 4, 2021.

Week of January 11, 2021—Tentative

There are no meetings scheduled for the week of January 11, 2021.

Week of January 18, 2021—Tentative

There are no meetings scheduled for the week of January 18, 2021.

CONTACT PERSON FOR MORE INFORMATION: For more information or to verify the status of meetings, contact Denise McGovern at 301-415-0681 or via email at Denise.McGovern@nrc.gov. The schedule for Commission meetings is subject to change on short notice.

The NRC Commission Meeting Schedule can be found on the internet at: https://www.nrc.gov/public-involve/public-meetings/schedule.html.

The NRC provides reasonable accommodation to individuals with disabilities where appropriate. If you need a reasonable accommodation to participate in these public meetings or need this meeting notice or the transcript or other information from the public meetings in another format (e.g., Braille, large print), please notify Anne Silk, NRC Disability Program Specialist, at 301-287-0745, by videophone at 240-428-3217, or by email at Anne.Silk@nrc.gov. Determinations on requests for reasonable accommodation will be made on a case-by-case basis.

Members of the public may request to receive this information electronically. If you would like to be added to the distribution, please contact the Nuclear Regulatory Commission, Office of the Secretary, Washington, DC 20555 (301-415-1969), or by email at Tyesha.Bush@nrc.gov.

The NRC is holding the meetings under the authority of the Government in the Sunshine Act, 5 U.S.C. 552b.

Dated: December 15, 2020.
For the Nuclear Regulatory Commission.
Denise L. McGovern,
Policy Coordinator, Office of the Secretary.

[FR Doc. 2020-28027 Filed 12-16-20; 11:15 am]

BILLING CODE 7590-01-P